DEPARTMENT OF LABOR

Employment and Training Administration

[TA-W-51,650]

Markwins Beauty Products, Inc., Formerly Known as AM Cosmetics, North Arlington, NJ; Amended Certification Regarding Eligibility To Apply for Worker Adjustment Assistance

In accordance with section 223 of the Trade Act of 1974 (19 U.S.C. 2273) the Department of Labor issued a Certification of Eligibility to Apply for Worker Adjustment Assistance on May 9, 2003, applicable to workers of Markwins Beauty Products, Inc., North Arlington, New Jersey. The notice was published in the Federal Register on June 3, 2003 (68 FR 33197).

At the request of the State agency, the Department reviewed the certification for workers of the subject firm. The workers were engaged in the production of cosmetics. The subject firm originally named AM Cosmetics was renamed Markwins Beauty Products, Inc. in March, 2003. The State agency reports that some workers wages at the subject firm are being reported under the Unemployment Insurance (UI) tax account for AM Cosmetics, North Arlington, New Jersey.

Accordingly, the Department is amending the certification to properly reflect this matter.

The intent of the Department's certification is to include all workers of Markwins Beauty Products, Inc. who were adversely affected by increased imports.

The amended notice applicable to TA-W-51,650 is hereby issued as follows:

All workers of Markwins Beauty Products, Inc., formerly known as AM Cosmetics, North Arlington, New Jersey, who became totally or partially separated from employment on or after April 10, 2002, through May 9, 2005, are eligible to apply for adjustment assistance under section 223 of the Trade Act of 1974.

Signed at Washington, DC this 10th day of September 2003.
Richard Church,
Certifying Officer, Division of Trade Adjustment Assistance.

[FR Doc. 03-25712 Filed 10-9-03; 8:45 am]

BILLING CODE 4510-30-P